DEPARTMENT OF DEFENSE

Office of the Secretary

[Docket ID DoD-2013-OS-0149]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 6, 2013.

ADDRESSES: You may submit comments, identified by docket number and title, by any of the following methods:

Federal eRulemaking portal: http://www.regulations.gov. Follow the instructions for submitting comments.

Mail: Federal Docket Management Systems Office, 4800 Mark Center Drive, 2nd Floor, East Tower, Suite 02G09, Alexandria, VA 22350-3100.

Instructions: All submissions received must include the agency name, docket number, and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity (DoDEA), 4800 Mark Center Drive, Alexandria, VA 22350 ATTN: Dr. Sandra D. Embler or call (571) 372-6006.

Title and OMB Control Number: “2013 Speak Up Survey,” OMB Control Number: 0704-TBD.

Needs and Uses: The Speak-Up National Survey is an annual online survey created and administered by Project Tomorrow. DoDEA will participate in the survey in order to gather information from students and parents of students attending DoDEA schools on the use of technology in education throughout the United States. The survey provides data on how these groups are using and would like to use technology for learning in and out of school. Broad areas of information gathered via the surveys include: The benefits of using technology for learning; attitudes and interest in math and science, as well as career aspirations; how respondents self-assess their 21st century skills competencies. The information gathered via the surveys does not currently exist, especially in a format that allows comparisons between DoDEA and national trends. The data resulting from the survey will be used by DoDEA as a planning tool and needs assessment. The information from the survey as compared with national trends will be effective in assisting DoDEA in providing well-planned technology initiatives that meet the needs of our military-connected students and other stakeholders. The data will also be used to plan training and professional development for DoDEA employees, especially teachers, as it will accurately reflect the needs of teachers and other staff members alike. The data are essential to meet the President's charge in the recent technology-focused ConnectED initiative as well as the Presidential Study Directive 9: Strengthening Military Families, which states that “The Department of Defense commits to making DOD Education Activity (DODEA) schools a leader in the use of advanced learning technologies that have the potential to significantly improve student performance.”

Affected Public: Individuals or households.

Annual Burden Hours: 431.

Number of Respondents: 1292.

Responses per Respondent: 1.

Average Burden per Response: 20 minutes.

Frequency: Annually.

SUPPLEMENTARY INFORMATION:

Summary of Information Collection

The Project Tomorrow Speak-Up National Research Project will be open to all teachers, administrators, parents/sponsors of students attending a DoDEA school, as well as students in grades 3-12. The survey does not gather information that would personally identify individuals, and participation in the survey is completely voluntary. The survey is administered through an online, web-based technology. The questions will provide all stakeholders with the opportunity to provide input on their educational use of technology as well as their experience with technology at schools. The data will be incorporated into goals in DoDEA's currently in-process Technology Plan.

The survey results will be used at all levels of the organization to improve programs and services offered to DoDEA's students. The survey results will also be used as an outcome measure to monitor progress on the goals of the new Technology Plan.

Dated: June 19, 2013.
Aaron Siegel,
Alternate OSD Federal Register Liaison Officer, Department of Defense.

[FR Doc. 2013-16283 Filed 7-5-13; 8:45 am]

BILLING CODE 5001-06-P